DEPARTMENT OF DEFENSE

Office of the Secretary

Federal Advisory Committee Meeting; Military Leadership Diversity Commission (MLDC); Correction

AGENCY: Office of the Under Secretary of Defense for Personnel and Readiness, DoD.

ACTION: Meeting notice; correction.

SUMMARY: The Office of the Secretary of Defense published a document in the Federal Register on December 17, 2009 (74 FR 66959), announcing a Military Leadership Diversity Commission (MLDC) meeting on January 14 and 15, 2010. That document contained the correct agenda but the specific agenda topic (Promotion) is incorrect and is corrected in this notice. The dates, times, and meeting location are correct.

FOR FURTHER INFORMATION CONTACT: Master Chief Steven A. Hady, Designated Federal Officer, MLDC, at (703) 602-0838, 1851 South Bell Street, Suite 532, Arlington, VA. E-mail Steven.Hady@wso.whs.mil.

SUPPLEMENTARY INFORMATION:

Correction

In the Federal Register of December 17, 2009, in FR Doc. E9-29999, on page 66959, in the second column under the heading January 14, 2010, correct the agenda topic “Briefings from Service representatives from organizations responsible for promotion” on lines 10 to 12 and 17 to 19 to read:

Briefings from Service representatives from organizations responsible for retention

Dated: December 18, 2009.
Mitchell S. Bryman,
Alternate OSD Federal Register Liaison Officer, Department of Defense.

[FR Doc. E9-30504 Filed 12-22-09; 8:45 am]

BILLING CODE 5001-06-P